DEPARTMENT OF HOUSING AND URBAN DEVELOPMENT

[Docket No. FR-4904-N-05]

Notice of Proposed Information Collection for Public Comment; Environmental Review Procedures for Entities Assuming HUD Environmental Responsibilities

AGENCY: Office of the Assistant Secretary for Community Planning and Development, HUD.

ACTION: Notice.

SUMMARY: The proposed information collection requirement described below will be submitted to the Office of Management and Budget (OMB) for review, as acquired by the Paperwork Reduction Act. The Department is soliciting public comments on the subject proposal.

DATES: Comments Due Date: July 6, 2004.

ADDRESSES: Interested persons are invited to submit comments regarding this proposal. Comments should refer to the proposal by name and/or OMB Control Number and should be sent to: Sheila Jones, Reports Liaison Officer, Community Planning and Development, Department of Housing and Urban Development, 451 7th Street, SW., Room 7232, Washington, DC 20410-7000.

FOR FURTHER INFORMATION CONTACT: Richard H. Broun, Director, Office of Environment and Energy, Department of Housing and Urban Development, Room 7244, 451 Seventh Street, SW., Washington, DC 20410-7000. For telephone communication, contact Walter Prybyla, Deputy Director for Policy, Environmental Review Division, (202) 708-1201 x4466 or e-mail: Walter_Prybyla@hud.gov. This phone number is not toll-free. Hearing or speech-impaired individuals may access this number via TTY by calling the toll-free Federal Information Relay Service at 1-800-877-8339.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Environmental Review Procedures for Entities Assuming HUD Environmental Responsibilities.

OMB Control Number: 2506-0087.

Description of the need for the information and proposed use: The purpose of this information collection is to document regulatory compliance with the National Environmental Policy Act (NEPA) and related environmental statutes. This is performed by recipients of HUD financial assistance who are required to assume HUD's environmental responsibilities and/or who are required to submit requests for release of funds and certify full compliance with NEPA and the related statutes using the procedures identified in 24 CFR part 58. Recipients establish and maintain sufficient records to enable the Secretary of HUD to determine whether the requirements of 24 CFR part 58 have been met. The records serve to allow the use of grant funds or financial assistance already awarded under 24 CFR part 58.

Agency form numbers: Form HUD 7015.15, “Request for Release of Funds and Certification.”

Members of affected public: Primary: Local, State, or Tribal Governments. Others: Public housing agencies, and private non- and for-profit entities.

Estimation of the total numbers of hours needed to prepare the information collection including number of respondents, frequency of response, and hours of response: Annual reporting and recordkeeping hour burden estimate is a total of 13,860 hours. Estimates are 18,785 respondents, 1 frequency of response, and 0.6 hours per response (regulatory references are Secs. 58.1 and 58.71 for form HUD-7015.15).

Status of the proposed information collection: Extension of a currently approved collection whose expiration date: November 30, 2004.

Authority: Section 3506 of the Paperwork Reduction Act of 1995, 44 U.S.C. Chapter 35, as amended.

Dated: April 30, 2004.
Roy Bernardi,
Assistant Secretary for Community Planning and Development.

[FR Doc. 04-10481 Filed 5-6-04; 8:45 am]

BILLING CODE 4210-29-M